DEPARTMENT OF JUSTICE

Notice of lodging of Consent Decree Pursuant to the Clean Water Act

In accordance with Department policy, 28 C.F.R. § 50.7, notice is hereby given that a proposed Consent Decree in United States v. Koch Industries, Inc. et al., Civil Action No. H 95-1118 (S.D. Tx.), and United States v. Koch Industries, Inc. et al., Civil Action No. 97 CV 687 B(E) (N.D.Ok.), was lodged with the United States District Court for the Southern District of Texas on January 13, 2000. The proposed Consent Decree settles the civil claims of the United States on behalf of the United States Environmental Protection Agency and United States Coast Guard, and the State of Texas, against Koch Industries, Inc. and a number of subsidiaries (“Koch”), in both of these actions.

In these actions, the United States alleged that, on numerous occasions, Koch violated Section 311(b) and (c) of the Clean Water Act, 33 U.S.C. § 1321(b) and (d), through the discharge of oil and related petroleum products in numerous spills from Koch oil and refined petroleum product pipelines and related pipeline facilities. The State of Texas intervened as co-plaintiff against Koch in both actions.

The proposed Consent Decree requires Koch Industries Inc. to pay $30,000,000 million in civil penalties, $15 million to the United States and $15 million to the State of Texas. The proposed Consent Decree also requires Koch to perform injunctive relief consisting of enhancements to its leak prevention programs on pipelines that are still operated by Koch. Koch will also expend at least $5 million to perform a number of environmental projects under the proposed Consent Decree in Oklahoma, Texas and Kansas, the States most affected by the subject discharges. These environmental projects include: a pipeline safety study; acquisition and preservation of wildlife habitat; other wetlands and water quality enhancement projects; and an emergency planning and response project.

The Department of Justice will receive for a period of thirty (30) days from the date of this publication comments relating to the proposed Consent Decree. Comments should be addressed to the Assistant Attorney General of the Environmental and Natural Resources Division, U.S. Department of Justice, P.O. Box 7611, Ben Franklin Station, Washington, D.C. 20044-7611, and should refer to United States v. Koch Industries, Inc. et al., D.J. Ref. #90-5-1-1-4109.

The Consent Decree may be examined at the following offices: United States Attorney's Office, Southern District of Texas, 910 Travis, Suite 1500, Houston, Texas 770208; United States Attorney's Office, Northern District of Oklahoma, 3900 U.S. Courthouse, 333 W. 4th Street, Tulsa, Oklahoma 74103; United States Environmental Projection Agency, Region 6, 1445 Ross Avenue, Dallas, Texas 750202-2733; United States Environmental Protection Agency, Region 7, 901 N. 5th Street, Kansas City, Kansas 66101. A copy of the Consent Decree may be obtained by mail from the Consent Decree Library, Department of Justice, P.O. Box 7611, Washington, D.C. 20044. In requesting a complete copy with all Attachments, please enclose a check in the amount of $11.75 (25 cents per page reproduction cost) payable to the Consent Decree Library. In requesting a copy of the Consent Decree without Attachments, please enclose a check in the amount of $10.00 (25 cents per page reproduction cost) payable to the Consent Decree Library.

Joel M. Gross,
Chief, Environmental Enforcement Section Environment and Natural Resources Division.

[FR Doc. 00-1881 Filed 1-26-00; 8:45 am]

BILLING CODE 4410-15-M